DEPARTMENT OF ENERGY

Federal Energy Regulatory Commission

[Project No. 13359-000]

Riverbank USA Holdings Corp.; Notice of Preliminary Permit Application Accepted for Filing and Soliciting Comments, Motions to Intervene, and Competing Applications

June 15, 2009.

On January 27, 2009, Riverbank USA Holdings Corp. filed an application pursuant to section 4(f) of the Federal Power Act, proposing to study the feasibility of the Tomkins Cove Pumped Storage Project No. 13359-000, to be located in the vicinity of Tomkins Cove, an unincorporated hamlet in the town of Stony Point, Rockland County, New York.

The proposed Tomkins Cove Pumped Storage Project consists of: (1) The Tilden Tomkins Cove Quarry (upper reservoir); (2) four 13-foot diameter vertical penstocks leading to a powerhouse 2000 feet underground; (3) a powerhouse containing four 250-megawatt (MW) units with a total installed capacity of 1,000 MW; (4) water leaving the turbines, would be temporarily stored in six underground storage galleries (lower reservoir); and (5) a new double circuit 345-kilovolt transmission line, approximately 1.0-mile long. The estimated average annual energy production of the project would be 2,190 gigawatt-hours.

Applicant Contact: Mr. John Douglas, President and CEO; c/o Riverbank Power Corporation; Royal Bank Plaza; South Tower, Box 166; 200 Bay Street, Suite 3110; Toronto, Ontario, M5J2J4 Canada.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of Commission's Web site at http://www.ferc.gov/docs-filing/elibrary.asp. Enter the docket number (P-13359) in the docket number field to access the document. For assistance, call toll-free 1-866-208-3372.

Kimberly D. Bose,
Secretary.

[FR Doc. E9-14454 Filed 6-18-09; 8:45 am]

BILLING CODE 6717-01-P